DEPARTMENT OF HOMELAND SECURITY

Coast Guard

33 CFR Part 165

[Docket No. USCG-2013-1033]

RIN 1625-AA00

Safety Zone; Annual Events Requiring Safety Zones in the Captain of the Port Lake Michigan Zone

AGENCY: Coast Guard, DHS.

ACTION: Notice of enforcement of regulation.

SUMMARY: The Coast Guard will enforce the safety zone on Lake Michigan in Milwaukee, Wisconsin for the Milwaukee Air and Water Show. This zone will be enforced from 8:30 a.m. until 5 p.m. on each day of June 18, 19, 20, 21, and 22, 2014. This action is necessary and intended to ensure safety of life on navigable waters during the Milwaukee Air and Water Show. During the aforementioned periods, the Coast Guard will enforce restrictions upon, and control movement of, vessels in the safety zone. No person or vessel may enter the safety zone while it is being enforced without permission of the Captain of the Port, Lake Michigan.

DATES: The regulations in 33 CFR 165.929 will be enforced for safety zone (f)(2) in § 165.929, Table 165.929, from 8:30 a.m. until 5 p.m. on each day of June 18, 19, 20, 21, and 22, 2014.

FOR FURTHER INFORMATION CONTACT: If you have questions on this document, call or email MST1 Joseph McCollum, Prevention Department, Coast Guard Sector Lake Michigan, Milwaukee, WI at (414) 747-7148, email joseph.p.mccollum@uscg.mil.

SUPPLEMENTARY INFORMATION: The Coast Guard will enforce the Milwaukee Air and Water Show safety zone listed as item (f)(2) in Table 165.929 of 33 CFR 165.929. Section 165.929 lists many annual events requiring safety zones in the Captain of the Port Lake Michigan zone. This Milwaukee Air and Water Show zone encompasses all waters and adjacent shoreline of Lake Michigan and Bradford Beach located within an area that is approximately 4600-by-1550 yards. The area is be bounded by the points beginning at 43°02′57″ N, 087°52′50″ W; then south along the Milwaukee Harbor break wall to 43°02′41″ N, 087°52′49″ W; then southeast to 43°02′26″ N, 087°52′01″ W; then northeast to 43°04′27″ N, 087°50′30″ W; then northwest to 43°04′41″ N, 087°51′29″ W; then southwest returning to the point of origin. This zone will be enforced from 8:30 a.m. until 5 p.m. on each day of June 18, 19, 20, 21, and 22, 2014.

All vessels must obtain permission from the Captain of the Port, Lake Michigan, or his or her on-scene representative to enter, move within, or exit the safety zone. Requests must be made in advance and approved by the Captain of the Port before transits will be authorized.

Approvals will be granted on a case by case basis. Vessels and persons granted permission to enter the safety zone must obey all lawful orders or directions of the Captain of the Port, Lake Michigan, or his or her designated representative.

This document is issued under authority of 33 CFR 165.929, Safety Zones; Annual events requiring safety zones in the Captain of the Port Lake Michigan zone, and 5 U.S.C. 552(a). In addition to this publication in the Federal Register, the Coast Guard will provide the maritime community with advance notification of this event via Broadcast Notice to Mariners or Local Notice to Mariners. The Captain of the Port, Lake Michigan, or his or her on-scene representative may be contacted via VHF Channel 16.

Dated: May 27, 2014.
M.W. Sibley,
Captain, U.S. Coast Guard, Captain of the Port, Lake Michigan.

[FR Doc. 2014-13385 Filed 6-6-14; 8:45 am]

BILLING CODE 9110-04-P